DEPARTMENT OF HOMELAND SECURITY

Coast Guard

33 CFR Part 100

[Docket Number USCG-2025-0528]

RIN 1625-AA08

Special Local Regulations; Recurring Marine Events; Sector St. Petersburg

AGENCY: Coast Guard, DHS.

ACTION: Notice of proposed rulemaking.

SUMMARY: The Coast Guard is proposing to revise its existing special local regulations by adding a new recurring event to an existing table. The Coast Guard is also proposing to expand a regulated area for one event and update the dates of existing events in the Seventh Coast Guard District Captain of the Port (COTP) St. Petersburg. This action is necessary to provide for the safety of life on these navigable waters. We invite your comments on this proposed rulemaking.

DATES: Comments and related material must be received by the Coast Guard on or before August 20, 2025.

ADDRESSES: You may submit comments identified by docket number USCG-2025-0528 using the Federal Document Management System at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Ryan McNaughton, Sector St. Petersburg Prevention Department, U.S. Coast Guard; telephone 813-918-7270, email ryan.a.mcnaughton@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

The Coast Guard proposes to amend the recurring marine events in the geographic boundaries of the Seventh Coast Guard District Captain of the Port (COTP) St. Petersburg Zone that are listed in 33 CFR 100.703, table 1 to § 100.703. The proposed rule would ensure that the public is informed of the most up to date recurring special local regulations. The current list under § 100.703, Table 1 to § 100.703 requires changes to three existing special local regulations and the addition of one new special local regulation. The purpose of this rulemaking is to ensure the safety of vessels and the navigable waters, during, and after the scheduled events. The Coast Guard is proposing this rulemaking under authority in 46 U.S.C 70041.

III. Discussion of Proposed Rule

This rule proposes to make the following changes in 33 CFR 100.703, Table 1 to § 100.703:

1. Revise Event No. 4, (Sarasota Powerboat Grand Prix/Powerboat P-1 USA, LLC) to reflect a Date/time change to “One weekend (Friday, Saturday, and Sunday) in July; Time (Approximate) 8:00 a.m. to 6:00 p.m.”

2. Revise Event No. 6, (St. Petersburg Powerboat Grand Prix) to reflect a Date/time change to “One weekend (Friday, Saturday and Sunday) in September; Time (Approximate): 8:00 a.m. to 6:00 p.m.”

3. Revise Event No. 8, (OPA World Championships/Englewood Beach Waterfest) to reflect a Date/time change to “One weekend (Friday, Saturday, and Sunday) in October; Time (Approximate): 8:00 a.m. to 6:00 p.m.” Additionally, revise the regulated area to encompass “All waters of the Gulf of America encompassed within the following point: 26°54′15″ N, 82°20′55″ W, thence to position 26°53′53″ N, 82°21′54″ W, thence to position 26°55′54″ N, 82°22′47″ W, thence to position 26°56′11″ N, 82°22′6″ W, thence back to the original position 26°54′15″ N, 82°20′55″ W.”

4. Add a new event named Clearwater AquaX, which will be held annually “One weekend (Friday, Saturday, and Sunday) in August; Time (Approximate): 8:00 a.m. to 6:00 p.m.”

5. Reorganize the numbering of events at 33 CFR 100.703, Table 1.

6. The regulatory text we are proposing appears at the end of this document.

IV. Regulatory Analyses

We developed this proposed rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action” under section 3(f) of Executive Order 12866. Accordingly, OMB has not reviewed it.

This regulatory action determination is based on the size, location, and duration of the special local regulations. These areas are limited in size and duration and usually do not affect high vessel traffic areas. Moreover, the Coast Guard would provide advance notice of the regulated areas to the local maritime community by Local Notice to Mariners, Broadcast Notice to Mariners via VHF-FM marine channel 16, and the rule would allow vessels to seek permission to enter the regulated area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves revising existing recurring events to reflect date and time changes and includes an additional recurring event into the table. Normally such actions are categorically excluded from further review under paragraph L61 of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Document Management System at https://www.regulations.gov. To do so, go to https://www.regulations.gov, type USCG-2025-0528 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 100

Harbors, Marine safety, Navigation (water), Reporting and recordkeeping requirements, Security measures, Waterways.

For the reasons discussed in the preamble, the Coast Guard is proposing to amend 33 CFR part 100 as follows:

PART 100—Safety of Life on Navigable Waters

1. The authority citation for part 100 continues to read as follows:

Authority: 46 U.S.C. 70041; 33 CFR 1.05-1.

2. In § 100.703, revise Table 1 to read as follows:

§ 100.703 Special Local Regulations; Recurring Marine Events, Sector St. Petersburg.

* * * * *

Table 1 to § 100.703—Special Local Regulations; Recurring Marine Events, Sector St. Petersburg
[Datum NAD 1983]
Date/time | Event/sponsor | Location | Regulated area
1. One Saturday in January; Time (Approximate): 11:30 a.m. to 2 p.m | Gasparilla Invasion and Parade/Ye Mystic Krewe of Gasparilla | Tampa, Florida | Location: A regulated area is established consisting of the following waters of Hillsborough Bay and its tributaries north of 27°51′18″ N and south of the John F. Kennedy Bridge: Hillsborough Cut “D” Channel, Seddon Channel, Sparkman Channel and the Hillsborough River south of the John F. Kennedy Bridge.
|  |  | Additional Regulation:
|  |  | (1) Entrance into the regulated area is prohibited to all commercial marine traffic from 9 a.m. to 6 p.m. EST on the day of the event.
|  |  | (2) The regulated area will include a 100 yard Safety Zone around the vessel JOSE GASPAR while docked at the Tampa Yacht Club until 6 p.m. EST on the day of the event.
|  |  | (3) The regulated area is a “no wake” zone.
|  |  | (4) All vessels within the regulated area shall stay 50 feet away from and give way to all officially entered vessels in parade formation in the Gasparilla Marine Parade.
|  |  | (5) When within the marked channels of the parade route, vessels participating in the Gasparilla Marine Parade may not exceed the minimum speed necessary to maintain steerage.
|  |  | (6) Jet skis and vessels without mechanical propulsion are prohibited from the parade route.
|  |  | (7) Vessels less than 10 feet in length are prohibited from the parade route unless capable of safely participating.
|  |  | (8) Vessels found to be unsafe to participate at the discretion of a present Law Enforcement Officer are prohibited from the parade route.
|  |  | (9) Northbound vessels in excess of 65 feet in length without mooring arrangement made prior to the date of the event are prohibited from entering Seddon Channel unless the vessel is officially entered in the Gasparilla Marine Parade.
|  |  | (10) Vessels not officially entered in the Gasparilla Marine Parade may not enter the parade staging area box within the following coordinates: 27°53′53″ N, 082°27′47″ W; 27°53′22″ N, 082°27′10″ W; 27°52′36″ N, 082°27′55″ W; 27°53′02″ N, 082°28′31″ W.
2. One Saturday in February; Time (Approximate): 9:00 a.m. to 9:00 p.m | Bradenton Area River Regatta/City of Bradenton | Bradenton, FL | Location(s): Enforcement Area #1. All waters of the Manatee River between the Green Bridge and the CSX Train Trestle contained within the following points: 27°30′43″ N, 082°34′20″ W, thence to position 27°30′44″ N, 082°34′09″ W, thence to position 27°30′00″ N, 082°34′04″ W, thence to position 27°29′58″ N, 082°34′15″ W, thence back to the original position, 27°30′43″ N, 082°34′20″ W.
|  |  | Enforcement Area #2. All waters of the Manatee River contained within the following points: 27°30′35″ N, 082°34′37″ W, thence to position 27°30′35″ N, 082°34′26″ W, thence to position 27°30′26″ N, 082°34′26″ W, thence to position 27°30′26″ N, 082°34′37″ W, thence back to the original position, 27°30′35″ N, 082°34′37″ W.
3. One weekend (Friday, Saturday, and Sunday) in March; Time (Approximate): 8:00 a.m. to 5:00 p.m | Gulfport Grand Prix/Gulfport Grand Prix LLC | Gulfport, FL | Location(s): (1) Race Area. All waters of Boca de Ciego contained within the following points: 27°44′10″ N, 082°42′29″ W, thence to position 27°44′07″ N, 082°42′40″ W, thence to position 27°44′06″ N, 082°42′40″ W, thence to position 27°44′04″ N, 082°42′29″ W, thence to position 27°44′07″ N, 082°42′19″ W, thence to position 27°44′08″ N, 082°42′19″ W, thence back to the original position, 27°44′10″ N, 082°42′29″ W.
|  |  | (2) Buffer Zone. All waters of Boca de Ciego encompassed within the following points: 27°44′10″ N, 082°42′47″ W, thence to position 27°44′01″ N, 082°42′44″ W, thence to position 27°44′01″ N, 082°42′14″ W, thence to position 27°44′15″ N, 082°42′14″ W.
4. One weekend (Friday, Saturday and Sunday) in July; Time (Approximate): 8:00 a.m. to 6:00 p.m | Sarasota Powerboat Grand Prix/Powerboat P-1 USA, LLC | Sarasota, FL | Location: All waters of the Gulf of America contained within the following points: 27°18′44″ N, 082°36′14″ W, thence to position 27°19′09″ N, 082°35′13″ W, thence to position 27°17′42″ N, 082°34′00″ W, thence to position 27°16′43″ N, 082°34′49″ W, thence back to the original position, 27°18′44″ N, 082°36′14″ W.
5. One weekend (Friday, Saturday and Sunday in August; Time (Approximate): 8:00 a.m. to 8:00 p.m | Clearwater AquaX Grand Prix/Powerboat P-1 USA, LLC | Clearwater, FL | Location: All waters of the Gulf of America contained within the following points: 27°57′11″ N, 82°50′1″ W, thence to 27°57′13″ N, 82°50′19″ W, thence to 27°57′55″ N, 82°50′10″ W, thence to 27°57′53″ N, 82°49′65″ and along the shoreline back to the beginning point.
6. One weekend (Friday, Saturday and Sunday) in September; Time (Approximate): 8:00 a.m. to 6:00 p.m | St. Petersburg Powerboat Grand Prix | St. Petersburg, FL | Location: All waters of the Tampa Bay encompassed within the following points: 27°46′56.22″ N, 082°36′55.50“W, thence to position 27°47′08.82″ N, 082°34′33.24″ W, thence to position 27°46′06.96″ N, 082°34′29.04″ W, thence to position 27°45′59.22″ N, 082°37′02.88″W, thence back to the original position 27°46′24.24″ N, 082°37′30.24″ W.
7. One weekend (Saturday and Sunday) in September; Time (Approximate): 8:00 a.m. to 4:00 p.m | Clearwater Offshore Nationals/Race World Offshore | Clearwater, FL | Locations: (1) Race Area. All waters of the Gulf of America contained within the following points: 27°58′34″ N, 82°50′09″ W, thence to position 27°58′32″ N, 82°50′02″ W, thence to position 28°00′12″ N, 82°50′10″ W, thence to position 28°00′13″ N, 82°50′10″ W, thence back to the original position, 27°58′34″ N, 82°50′09″ W.
|  |  | (2) Spectator Area. All waters of Gulf of America seaward no less than 150 yards from the race area and as agreed upon by the Coast Guard and race officials.
|  |  | (3) Enforcement Area. All waters of the Gulf of America encompassed within the following points: 28°58′40″ N, 82°50′37″ W, thence to position 28°00′57″ N, 82°49′45″ W, thence to position 27°58′32″ N, 82°50′32″ W, thence to position 27°58′23″ N, 82°49′53″ W, thence back to position 28°58′40″ N, 82°50′37″ W.
8. One Thursday, Friday, and Saturday in October; Time (Approximate): 10:00 a.m. to 5:00 p.m | Roar Offshore/OPA Racing LLC | Fort Myers Beach, FL | Location: All waters of the Gulf of America west of Fort Myers Beach contained within the following points: 26°26′27″ N, 081°55′55″ W, thence to position 26°25′33″ N, longitude 081°56′34″ W, thence to position 26°26′38″ N, 081°58′40″ W, thence to position 26°27′25″ N, 081°58′8″ W, thence back to the original position 26°26′27″ N, 081°55′55″ W.
9. One weekend (Friday, Saturday, and Sunday) in October; Time (Approximate): 8:00 a.m. to 6:00 p.m | OPA World Championships/Englewood Beach Waterfest | Englewood Beach, FL | Location: All waters of the Gulf of America encompassed within the following points: 26°54′15″ N, 82°20′55″ W, thence to position 26°53′53″ N, 82°21′54″ W, thence to position 26°55′54″ N, 82°22′47″ W, thence to position 26°56′11″ N, 82°22′6″ W, thence back to the original position 26°54′15″ N, 82°20′55″ W.

Dated: July 14, 2025.
Courtney A. Sergent,
Captain, U.S. Coast Guard, Captain of the Port Sector St. Petersburg.

[FR Doc. 2025-13675 Filed 7-18-25; 8:45 am]

BILLING CODE 9110-04-P